CONSUMER PRODUCT SAFETY COMMISSION

Commission Agenda and Priorities; Notice of Hearing

AGENCY: U.S. Consumer Product Safety Commission.

ACTION: Notice of public hearing.

SUMMARY: The U.S. Consumer Product Safety Commission (Commission or CPSC) will conduct a public hearing to receive views from interested parties about the Commission's agenda and priorities for fiscal year (FY) 2025, which begins on October 1, 2024, and for FY 2026, which begins on October 1, 2025. We invite members of the public to participate.

DATES: The hybrid hearing will be held in person at CPSC's headquarters and remotely via webinar on May 8, 2024, beginning at 10:00 a.m. Eastern Daylight Time (EDT).

ADDRESSES: This year's hearing will be held as a hybrid meeting—in person at CPSC's headquarters and remotely via webinar. For individuals attending in person, the meeting will be held at CPSC's headquarters, located at 4330 East-West Highway, 4th Floor—Hearing Room, Bethesda, MD 20814. Individuals who plan to attend the meeting remotely should use the following link to access the meeting: https://cpsc.webex.com/cpsc/j.php?MTID=m8963411189b6bd697089c6282d08b7e9. Requests to make oral presentations (in person or remotely) and the text of oral presentations and written comments should be sent by email to cpsc-os@cpsc.gov with the subject line, “Agenda and Priorities FY 2025 and/or 2026.” Requests to make oral presentations—in person or remotely—and the written text of any oral presentations must be received by the Office of the Secretary not later than 5:00 p.m. EDT on April 24, 2024. The Commission will accept written comments as well. These also must be received by the Office of the Secretary not later than 5:00 p.m. EDT on April 24, 2024.

FOR FURTHER INFORMATION CONTACT: For information about the hearing, or to request an opportunity to make an oral presentation, whether in person or remotely, please send an email to CPSC's Office of the Secretary at cpsc-os@cpsc.gov. If you have any questions about the hearing, you may contact Alberta E. Mills, Office of the Secretary, U.S. Consumer Product Safety Commission, 4330 East-West Highway, Bethesda, MD 20814, telephone (301) 504-7479.

SUPPLEMENTARY INFORMATION:

I. Background

Section 4(j) of the Consumer Product Safety Act (CPSA), 15 U.S.C. 2053(j), requires the Commission to establish an agenda for action under the laws the Commission administers and, to the extent feasible, select priorities for action at least 30 days before the beginning of each fiscal year. Section 4(j) of the CPSA provides further that when establishing its agenda and priorities, the Commission shall conduct a public hearing and provide an opportunity for the submission of comments.

II. Instructions for Remote Attendees

The hybrid public hearing will be held on May 8, 2024, at 10:00 a.m. EDT in person at CPSC's headquarters and remotely via webinar. The notice for the hearing will also be made available on the CPSC website on the public calendar: https://www.cpsc.gov/Newsroom/Public-Calendar. Individuals who plan to attend the meeting remotely should use the following link to access the meeting: https://cpsc.webex.com/cpsc/j.php?MTID=m8963411189b6bd697089c6282d08b7e9.

III. Oral Presentations (Both in Person at CPSC's Headquarters and Remotely via Webinar) and Submission of Written Comments

The Commission is preparing the agency's fiscal year 2025 Operating Plan and fiscal year 2026 Congressional Budget Request. Fiscal year 2025 begins on October 1, 2024, and fiscal year 2026 begins on October 1, 2025. Through this notice, the Commission invites the public to comment on the Commission's agenda and priorities that will be established in the fiscal year 2025 Operating Plan and the fiscal year 2026 Congressional Budget Request. Proposed priorities should be aligned with the agency's Strategic Plan for fiscal years 2023-2026, which is available at http://www.cpsc.gov/about-cpsc/agency-reports/performance-and-budget.

Persons who desire to make oral presentations at the hearing on May 8, 2024—in person or remotely—should send an email to the Office of the Secretary, U.S. Consumer Product Safety Commission at cpsc-os@cpsc.gov not later than 5:00 p.m. EDT on April 24, 2024. Texts of intended oral presentations should be captioned “Agenda and Priorities FY 2025 and/or 2026” and must be received not later than 5:00 p.m. EDT on April 24, 2024. Oral presentations—in person or remotely—should be limited to approximately 10 minutes. The Commission reserves the right to impose further time limitations or other restrictions on presentations.

If you do not want to make an oral presentation but would like to provide written comments, you may do so. Written comments should be captioned, “Agenda and Priorities FY 2025 and/or 2026,” and sent to Office of the Secretary, U.S. Consumer Product Safety Commission at cpsc-os@cpsc.gov not later than 5 p.m. EDT on April 24, 2024. There is no length restriction for written comments.

Alberta E. Mills,
Secretary, U.S. Consumer Product Safety Commission.

[FR Doc. 2024-06816 Filed 3-29-24; 8:45 am]

BILLING CODE 6355-01-P